DEPARTMENT OF TRANSPORTATION

Federal Aviation Administration

14 CFR Part 39

[Docket No. FAA-2007-29316; Directorate Identifier 2007-CE-078-AD; Amendment 39-15334; AD 2008-02-04]

RIN 2120-AA64

Airworthiness Directives; Eclipse Aviation Corporation Model EA500 Airplanes

AGENCY: Federal Aviation Administration (FAA), DOT.

ACTION: Final rule; correction.

SUMMARY: This document makes a correction to Airworthiness Directive (AD) 2008-02-04, which was published in the Federal Register on January 22, 2008 (73 FR 3618), and applies to all Eclipse Aviation Corporation (Eclipse) Model EA500 airplanes. This AD requires incorporating a modification of the angle of attack (AOA) system, limits the applicability to airplanes under S/N 000065, and retains the operating limitations from AD 2007-13-11 until the modification is incorporated. The FAA incorrectly referenced the issue date of the AD as “January 9, 2007” instead of “January 9, 2008.” This document corrects the issue date.

DATES: The effective date of this AD remains February 26, 2008, since the incorrect reference of the issue date of AD 2008-02-04 does not affect compliance.

FOR FURTHER INFORMATION CONTACT: Al Wilson, Flight Test Pilot, Airplane Certification Office, FAA, 2601 Meacham Blvd., Fort Worth, Texas 76137-4298; telephone: (817) 222-5146; fax: (817) 222-5960.

SUPPLEMENTARY INFORMATION:

Discussion

AD 2008-02-04, Amendment 39-15334 (73 FR 3618, January 22, 2008), affects Eclipse Model EA500 airplanes and currently:

• Requires incorporating a modification of the angle of attack (AOA) probe;

• Limits the applicability to airplanes under S/N 000065; and

• Retains the operating limitations from AD 2007-13-11 until the modification is incorporated.

The FAA incorrectly referenced the issue date as “January 9, 2007” instead of “January 9, 2008.” This document corrects the issue date.

Need for the Correction

This correction is needed to reflect the correct issue date on the AD.

Correction of Publication

Accordingly, the publication of January 22, 2008 (73 FR 3618), which was the subject of FR Doc. E8-751, is corrected as follows:

Section 39.13 [Corrected]

On page 3619, in the third column, in the sixth and seventh lines from the bottom, under the heading § 39.13 [Amended], replace “January 9, 2007” with “January 9, 2008.”

Action is taken herein to correct this reference in the AD.

The effective date of this AD remains February 26, 2008, since the incorrect reference of the issue date of AD 2008-02-04 does not affect compliance.

Issued in Kansas City, Missouri, on August 1, 2008.
James E. Jackson,
Acting Manager, Small Airplane Directorate, Aircraft Certification Service.

[FR Doc. E8-18227 Filed 8-8-08; 8:45 am]

BILLING CODE 4910-13-P